DEPARTMENT OF AGRICULTURE

Rural Business-Cooperative Service

Request for Proposals: Fiscal Year 2000 Funding Opportunity for Research on Rural Cooperative Opportunities and Problems

AGENCY: Rural Business-Cooperative Service, USDA.

ACTION: Notice.

SUMMARY: The Rural Business-Cooperative Service (RBS) announces the availability of approximately $300,000 in competitive cooperative agreement funds allocated from FY 2000 appropriations. RBS hereby requests proposals from institutions of higher education or nonprofit organizations interested in applying for competitively awarded cooperative agreements for research related to agricultural and nonagricultural cooperatives serving rural communities. The intent of the funding is to encourage research on critical issues vital to the development and sustainability of cooperatives as a means of improving the quality of life in America's rural communities.

DATES: Cooperative agreement applications must be postmarked no later than June 30, 2000. Proposals postmarked after June 30, 2000, will not be considered for funding.

ADDRESSES: Send Proposals and other required materials to Dr. Thomas H. Stafford, Director, Cooperative Marketing Division, Rural Business-Cooperative Service, USDA, Stop 3252, Room 4204, 1400 Independence Avenue SW, Washington, DC 20250-3252. Telephone: (202) 690-0368.

FOR FURTHER INFORMATION CONTACT: Dr. Thomas H. Stafford, Director, Cooperative Marketing Division, Rural Business-Cooperative Service, USDA, Stop 3252, Room 4204, 1400 Independence Avenue SW, Washington, DC 20250-3252. Telephone: (202) 690-0368.

SUPPLEMENTARY INFORMATION:

General Information

This solicitation is issued pursuant to the Agriculture, Rural Development, Food and Drug Administration, and Related Agencies Appropriations Act, 2000 making appropriations for programs administered by USDA's RBS for the fiscal year ending September 30, 2000. The mission of RBS is to improve the quality of life in rural America by financing community facilities and businesses, providing technical assistance and creating effective strategies for rural development. RBS has authority to enter into cooperative agreements pursuant to section 607(b)(4) of the Rural Development Act of 1972, as amended by section 759A of the Federal Agriculture Improvement and Reform Act of 1996.

The primary objective of this funding is to encourage research through cooperative agreements on critical issues vital to the development and sustainability of user-owned cooperatives as a means of improving the quality of life in America's rural communities. Issue areas on which proposals should focus are:

(1) Equity management issues in new generation cooperatives including alternatives to appreciated delivery rights: the challenges, benefits, and pitfalls;

(2) Cooperatives and e-commerce: how the internet is changing the competitive landscape for farmer-owned businesses and their adaptation to it;

(3) Marketing-agencies-in-common: a case-study examination of successes and failures;

(4) The role of social capital in generating positive market outcomes for cooperatively owned agribusinesses;

(5) Governance and control issues in evolving cooperative structures and environments;

(6) Cooperatives as a means of putting global markets within reach of small farmers;

(7) The roles of cooperatives contracting and helping producers of identity-preserved crops match the needs of end-users and negotiate acceptable terms of trade; and

(8) Evaluation of cooperatives' roles in the changing market structure of the food and fiber system.

A cooperative agreement reflects a relationship between the United States Government and an eligible recipient where (1) The principal purpose of the relationship is the transfer of money, property, services, or anything of value to the eligible recipient to carry out research related to rural cooperatives; and (2) substantial involvement is anticipated between RBS acting for the United States Government, and the eligible recipient during the performance of the research in the agreement. A cooperative agreement is not a grant. Cooperative agreements are to be awarded on the basis of merit, quality, and relevance to advancing the purpose of federally-supported rural development programs that increase economic opportunities in farming and rural communities.

All forms required to apply are available from the Cooperative Services Program web-site at www.usda.gov/rbs/coops/rrcop.htm, by calling (202) 690-0368, or faxing (202) 690-2723. Forms may also be requested via Internet by sending a message with your name, mailing address (not E-mail), and phone number to “thomas.stafford@usda.gov”. When calling or e-mailing Cooperative Services, please indicate that you are requesting forms for Fiscal Year 2000 (FY 2000) Research on Rural Cooperative Opportunities and Problems (RRCOP). Forms will be mailed to you (not e-mailed or faxed) as quickly as possible. Forms are also usually available from the local university grants office.

Use of Funds

Funds may be used to pay up to 75 percent of the total cost (Federal plus non-Federal) for carrying out relevant projects. Applicants' contributions may be in cash or in-kind contribution and must be from nonfederal funds. Funds may not be used to: (1) Pay more than 75 percent of relevant project or administrative costs; (2) pay costs of preparing the application package; (3) fund political activities; or (4) pay costs incurred prior to the effective date of the cooperative agreement. Indirect costs may not exceed 10 percent of direct costs.

Available Funds and Award Limitations

The amount of funds available for cooperative agreements in FY 2000 is approximately $300,000. The actual number of cooperative agreements funded will depend on the quality of proposals received and the amount of funding requested. Maximum amount of Federal funds awarded for any one proposal will be $100,000. In 1999, the 15 awards may ranged from $15,000 to $100,000, with an average award of $59,000.

Eligible Applicants

Proposals may be submitted by public or private colleges or universities, research foundations maintained by a college or university, or private nonprofit organizations. Under the Lobbying Disclosure Act of 1995, an organization described in section 501(c)(4) of the Internal Revenue Code of 1986 (26 U.S.C. 501(c)(4)), which engages in lobbying activities, is not eligible to apply.

Methods for Evaluating and Ranking Applications

Applications will be evaluated by a panel of RBS technical experts. Applications also will be evaluated competitively and points awarded as specified in the Evaluation Criteria and Weights section of this notice. After assigning points upon those criteria, applications will be listed in rank order and presented, along with funding level recommendations, to the Administrator of RBS, who will make the final decision on awarding of agreements. Applications will then be funded in rank order until all available funds have been expended. RBS reserves the right to make selections out of rank order to provide for a geographic or subject matter distribution of funded projects. In addition, timely completion of past cooperative agreements with RBS may be considered in awarding funds. With respect to any approved proposal, the amount of funding and the project period during which the project may be funded and will be completed, are subject to negotiation prior to finalization of the cooperative agreement.

Evaluation Criteria and Weights

RBS will initially determine whether the submitting organization is eligible and whether the application contains the information required by this notice. Prior to technical examination, each proposal will be reviewed for responsiveness to the funding solicitation. Proposals focusing on technical assistance, consulting, or problem solving for the benefit of a single cooperative are not encouraged. Submissions that do not fall within the guidelines as stated in the solicitation will be eliminated from the competition and will be returned to the applicant.

After this initial screening, RBS will use the following criteria to rate and rank proposals received in response to this notice of funding availability. The maximum number of points is 100. Failure to address any of the following criteria will disqualify the proposal:

(1) Relevance: Focuses on cooperatives serving rural areas and demonstrates a clear relationship with the research topics contained in this notice (maximum 20 points);

(2) Demonstrates potential to contribute innovative ideas or solutions to identified problems or issues (maximum 20 points);

(3) Shows capacity for broad applicability in facilitating new or improved cooperative development or new or improved cooperative approaches (maximum 15 points);

(4) Outlines a sound plan of work and appropriate methodology to accomplish the stated objective of the research (maximum 15 points);

(5) Adequately documents the need for and clearly defines the objectives of the research (maximum 10 points);

(6) Demonstrates cost effectiveness (maximum 10 points); and

(7) Identifies qualified resources and personnel, including a demonstrated track record of similar research (maximum 10 points).

Deliverables

Upon completion of the project, recipients will deliver the results of the research to RBS, in the form of a document of publishable quality, accompanied by all applicable supporting data. Publishable documents include, but are not limited to, manuscripts, videotapes, or software, or other media, as may be identified in approved proposals. RBS retains publishing rights to such documents, as well as rights to any raw or preliminary data collected as part of the project.

Content of a Proposal

A proposal should contain the following:

(1) Form SF-424, “Application for Federal Assistance.”

(2) Form SF-424A, “Budget Information—Non-Construction Programs.”

(3) Form SF-424B, “Assurances—Non-Construction Programs.”

(4) Form AD-1047, “Certification Regarding Debarment, Suspension, and Other Responsibility Matters.”

(5) Form AD-1049, “Certification Regarding Drug-Free Workplace Requirements.”

(6) Table of Contents: For ease of locating information, each proposal must contain a detailed Table of Contents immediately following the required forms. The Table of Contents should include page numbers for each component of the proposal. Pagination should begin immediately following the Table of Contents.

(7) Project Summary. A summary of the Project Proposal, not to exceed one-page, should include the following: title of the project; names of principal investigators and applicant organization; and a description of the overall goals and relevance of the project.

(8) Project Proposal: The application must contain a narrative statement describing the nature of the proposed research. The proposal must include at least the following:

(i) Project Title. The title of the proposed project must be brief, yet represent the major thrust of the project.

(ii) Project Leaders. List the names and contact information for the principal investigators. Minor collaborators or consultants should be so designated and not listed as principal investigators.

(iii) Need for the Project. A concisely worded rationale for the research must be presented. Included should be a summarization of the body of knowledge (literature review) which substantiates the need for the research. The need for the proposed research must be clearly and directly related to the facilitation of new or improved cooperative approaches.

(iv) Objectives of the Project. Discuss the specific objectives of the project and the impact of the research on end-users.

(v) Procedures. Discuss the hypotheses or questions being asked and the methodology or approach to be used in carrying out the proposed research and accomplishing the objectives. A description of any subcontracting arrangements to be used in carrying out the project must be included.

(vi) Time Table. A tentative schedule for conducting the major steps of the research must be included.

(vii) Expected Output. Describe how the results will be presented and disseminated. Include who will be responsible for any published output.

(viii) Coordination and Management Plan. Describe how the project will be coordinated among various participants and the nature of the collaborations. Describe plans for management of the project to ensure its proper and efficient administration. Describe scope of RBS involvement in the project.

(9) Personnel Support. To assist reviewers in assessing the competence and experience of proposed principal investigators, the following must be included for each:

(i) Estimated time commitment to the project;

(ii) A one-page curriculum-vitae;

(iii) A chronological list of all publications during the past 5 years.

What To Submit

An original and two copies must be submitted in one package.

When and Where To Submit

Proposals must be postmarked no later than June 30, 2000. Proposals must be sent to Dr. Thomas H. Stafford, Director, Cooperative Marketing Division, Rural Business-Cooperative Service, USDA, Stop 3252, Room 4204, 1400 Independence Avenue SW., Washington, DC 20250-3252.

Other Federal Statutes and Regulations That Apply

Several other Federal statutes and regulations apply to proposals considered for review and to cooperative agreements awarded. These include but are not limited to:

7 CFR part 15, subpart A—Nondiscrimination in Federally-Assisted Programs of the Department of Agricultureu—Effectuation of Title VI of the Civil Rights Act of 1964.

7 CFR part 3015—Uniform Federal Assistance Regulations.

7 CFR part 3017—Governmentwide Debarment and Suspension (Nonprocurement) and Governmentwide Requirements for Drug-Free Workplace (Grants).

7 CFR part 3018—New Restrictions on Lobbying.

7 CFR part 3019—Uniform Administrative Requirements for Grants and Agreements with Institutions of Higher Education, Hospitals, and Other Nonprofit Organizations.

7 CFR part 3052—Audits of States, Local Governments, and Non-Profit Organizations.

Paperwork Reduction Act

The collection information in this notice have received temporary emergency clearance by the Office of Management and Budget (OMB) under Control Number 0570-0028. However, in accordance with the Paperwork Reduction Act of 1995, RBS will seek standard OMB approval of the reporting requirements contained in the Notice and hereby opens a 60-day comment period.

Abstract: Approximately $300,000 in cooperative agreement funds has been allocated from the FY 2000 appropriations for programs administered by USDA's Rural Business-Cooperative Service (RBS) to encourage research related to rural cooperatives. The funds will be available to institutions of higher education and nonprofit organizations for research on issues vital to the development and sustainability of cooperatives as a means of improving the quality of life in America's rural communities. These issues include:

(1) Equity management issues in new generation cooperatives including alternatives to appreciated delivery rights: the challenges, benefits, and pitfalls;

(2) Cooperatives and e-commerce: how the internet is changing the competitive landscape for farmer-owned businesses and their adaptation to it;

(3) Marketing-agencies-in-common: a case-study examination of successes and failures;

(4) Roles of social capital in generating positive market outcomes for cooperatively owned agribusinesses;

(5) Governance and control issues in evolving cooperative structures and environments;

(6) Cooperatives as a means of putting global markets within reach of small farmers;

(7) Roles of cooperatives contracting and helping producers of identity-preserved crops match the needs of end-users and negotiate acceptable terms of trade; and

(8) Evaluation of cooperatives' roles in the changing market structure of the food and fiber system.

The funds will be awarded on a competitive basis using specific selection criteria.

Public Burden in This Notice

Form SF-424, “Application for Federal Assistance”

This application is used by applicants as a required face sheet for applications for Federal funding.

Form SF-424A, “Budget Information-Non-Construction Programs”

This form must be completed by applicants to show the project's anticipated budget breakdown in terms of expense categories and division of Federal and non-Federal sources of funds. Identifying the project's requested funding by expense category is necessary to assure that the expense is necessary for successful conduct of the project, is allowable under applicable Federal cost principles, and is not prohibited under any applicable Federal statute or regulation.

SF-424B, “Assurances-Non-Construction Programs”

This form must be completed by the applicant to provide the Federal government certain assurances of the applicant's legal authority to apply for Federal assistance and financial capability to pay the non-Federal share of project costs. The applicant also assures compliance with various legal and regulatory requirements as described in the form.

Project Proposal

All applicants must submit a project proposal containing the elements described in the notice and in the format prescribed. This allows for in-depth evaluation, as well as for consistency, organization, and clarity. The elements of the proposal are:

Reporting Requirements

Funding recipients will be required to submit written project performance reports on a quarterly basis. The project performance reports will include, but are not limited to: (1) A comparison of actual accomplishments to established objectives; (2) reasons established objectives were not met; (3) problems, delays, or adverse conditions which will materially affect attainment of planned project objectives; (4) objectives for the next reporting period; and (5) status of compliance with any special conditions on the use of awarded funds.

Record-Keeping Requirements

Regulations require that financial records, supporting documents, statistical records, and all other records pertinent to the award will be retained for a period of at least 3 years after the agreement closing. The exception that records will be retained beyond 3 years is if audit findings have not been resolved.

Estimate of Burden: Public reporting burden for this collection is estimated to range from 15 minutes to 15 hours per response.

Respondents: Not-for-profit institutions.

Estimated Number of Respondents: 50.

Estimated Number of Responses per Respondent: 5.

Estimated Number of Responses: 240.

Estimated Total Annual Burden on Respondents: Roman 1,140.

Copies of this information collection can be obtained from Cheryl Thompson, Regulations and Paperwork Management Branch, Support Services Division, (202) 692-0043.

Comments

Comments are invited on: (a) Whether the proposed collection of information is necessary for the proper performance of the functions of the Agency, including whether the information will have practical utility; (b) the accuracy of the Agency's estimate of the burden to collect the required information, including the validity of the strategy used; (c) ways to enhance the quality, utility, and clarity of the information to be collected; and (d) ways to minimize the burden of the collection of information on those who are to respond, including through the use of appropriate automated, electronic, mechanical, or other technological collection techniques or other forms of information technology.

All responses to this notice will be summarized, included in the request for OMB approval, and will become a matter of public record. Comments on the paperwork burden may be sent to Cheryl Thompson, Regulations and Paperwork Management Branch, Rural Development, U.S. Department of Agriculture, Stop 0742, 1400 Independence Avenue SW, Washington, DC 20250-0742.

Dated: May 4, 2000.
Wilbur T. Peer,
Acting Administrator, Rural Business-Cooperative Service.

[FR Doc. 00-11639 Filed 5-9-00; 8:45 am]

BILLING CODE 3410-XY-U